DEPARTMENT OF AGRICULTURE

Agency Information Collection Activities: Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by February 22, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of the Chief Information Security Officer

Title: Request and Consent Forms for Privacy Records.

OMB Control Number: 0503-NEW.

Summary of Collection: OMB M-21-04 provides guidance for Federal agencies to modernize the processes by which individuals may request access to, and consent to the disclosure of, records protected under the Privacy Act of 1974. As required by the Creating Advanced Streamlined Electronic Services for Constituents Act of 2019 (“CASES Act”), this guidance outlines the responsibilities of agencies for accepting access and consent forms provided in a digital format from individuals who are properly identity-proofed and authenticated.

Need and Use of the Information: The information will be collected using the AD-3123, Consent for Disclosure of Records Protected Under the Privacy Act and the AD-3124, Request for Disclosure of Records Protected Under the Privacy Act. The following information will be collected: name, address, date of birth, place of birth, citizenship status, records requested, and any additional information to locate the record. If the individual requesting privacy information does not complete the form, USDA will not submit the information.

Description of Respondents: Individuals or households.

Number of Respondents: 300.

Frequency of Responses: Reporting: On occasion.

Total Burden Hours: 240.

Ruth Brown,
Departmental Information Collection Clearance Officer.

[FR Doc. 2023-01134 Filed 1-20-23; 8:45 am]

BILLING CODE 3410-18-P